DEPARTMENT OF COMMERCE

National Oceanic and Atmospheric Administration

RIN 0648-XO97

Endangered and Threatened Species; Take of Anadromous Fish

AGENCY: National Marine Fisheries Service (NMFS), National Oceanic and Atmospheric Administration, Commerce.

ACTION: Notice of availability and request for comments.

SUMMARY: Notice is hereby given that NMFS has received an application from the Washington Department of Fish and Wildlife (WDFW) for a direct take permit pursuant to the Endangered Species Act of 1973, as amended (ESA). The duration of the proposed permit is ten years. This document serves to notify the public of the availability for comment of the permit application. All comments received will become part of the public record and will be available for review pursuant to the ESA.

DATES: Written comments on the application and draft EA must be received at the appropriate address or fax number (see ADDRESSES) no later than 5 p.m. Pacific time on June 1, 2009.

ADDRESSES: Written comments on the application should be sent to Nora Berwick, National Marine Fisheries Services, Salmon Recovery Division, 1201 N.E. Lloyd Boulevard, Suite 1100, Portland, OR 97232. Comments may also be submitted by e-mail to: sunsetfalls.nwr@noaa.gov. Include in the subject line of the e-mail comment the following identifier: Comments on Sunset Falls fishway. Comments may also be sent via facsimile (fax) to (503) 872-2737. Requests for copies of the permit application should be directed to the National Marine Fisheries Services, Salmon Recovery Division, 1201 N.E. Lloyd Boulevard, Suite 1100, Portland, OR 97232. The documents are also available on the Internet at www.nwr.noaa.gov. Comments received will also be available for public inspection, by appointment, during normal business hours by calling (503) 736-4737.

FOR FURTHER INFORMATION CONTACT: Nora Berwick, Portland, OR, at phone number: (503) 231-6887, e-mail: nora.berwick@noaa.gov.

SUPPLEMENTARY INFORMATION: This notice is relevant to the following species and evolutionarily significant units (ESUs):

Chinook salmon (Oncorhynchus tshawytscha): threatened Puget Sound

Steelhead (Oncorhynchus mykiss): threatened Puget Sound

Background

Section 9 of the ESA and Federal regulations prohibit the taking of a species listed as endangered or threatened. The term take is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

NMFS expects to take action on a ESA section 10(a)(1)(A) submittal received from the applicant. In an application received on February 27, 2009, WDFW applied to NMFS for an ESA section 10(a)(1)(A) permit for the direct take of ESA-listed threatened Puget Sound Chinook salmon and threatened Puget Sound steelhead from the South Fork Skykomish River in Washington state. The existing fishway at Sunset Falls will continue to be operated to trap Chinook salmon and steelhead arriving at the trap, and to haul trapped fish upstream for release into available habitat above three impassable waterfalls.

This notice is provided pursuant to section 10(c) of the ESA. NMFS will evaluate the application, associated documents, and comments submitted thereon to determine whether the application meets the requirements of section 10(a)(1)(A) of the ESA. If it is determined that the requirements are met, a permit will be issued to the WDFW for the purpose of carrying out the research and enhancement program. NMFS will publish a record of its final action in the Federal Register.

Dated: April 24, 2009.
Therese Conant,
Acting Chief, Endangered Species Division, Office of Protected Resources, National Marine Fisheries Service.

[FR Doc. E9-10054 Filed 4-30-09; 8:45 am]

BILLING CODE 3510-22-S